DEPARTMENT OF TRANSPORTATION

Federal Aviation Administration

14 CFR Part 39

[Docket No. 2000-NE-23-AD; Amendment 39-11888; AD 2000-18-03]

RIN 2120-AA64

Airworthiness Directives; Rolls-Royce plc RB211-524D4 Series Turbofan Engines

AGENCY: Federal Aviation Administration, DOT.

ACTION: Final rule; request for comments.

SUMMARY: This amendment adopts a new airworthiness directive (AD) that is applicable to Rolls-Royce plc models RB211-524D4-19, -524D4-B-19, -524D4-B-39, -524D4X-19, and 524D4X-B-19 turbofan engines with a cold stream nozzle assembly Part Number (PN) LJ32826 installed. This action requires inspection for cracks and repair of the cold stream nozzle assembly longitudinal flange. This amendment is prompted by a report of the loss of a large section of cold stream nozzle assembly in flight. The actions specified in this AD are intended to detect cracks that could result in failure of the cold stream nozzle assembly, possible release of cold stream nozzle debris from the engine, and possible damage to airplane control surfaces.

DATES: Effective September 22, 2000. The incorporation by reference of certain publications listed in the regulations is approved by the Director of the Federal Register as of September 22, 2000.

Comments for inclusion in the Rules Docket must be received on or before November 6, 2000.

ADDRESSES: Submit comments to the Federal Aviation Administration (FAA), New England Region, Office of the Regional Counsel, Attention: Rules Docket No. 2000-NE-23-AD, 12 New England Executive Park, Burlington, MA 01803-5299. Comments may also be sent via the Internet using the following address: “9-ane-adcomment@faa.gov”. Comments sent via the Internet must contain the docket number in the subject line.

The service information referenced in this AD may be obtained from Rolls-Royce plc, PO Box 31, Derby, England; telephone: International Access Code 011, Country Code 44, 1332-249428, fax: International Access Code 011, Country Code 44, 1332-249223. This information may be examined at the FAA, New England Region, Office of the Regional Counsel, 12 New England Executive Park, Burlington, MA; or at the Office of the Federal Register, 800 North Capitol Street, NW, suite 700, Washington, DC.

FOR FURTHER INFORMATION CONTACT: James Lawrence, Aerospace Engineer, Engine Certification Office, FAA, Engine and Propeller Directorate, 12 New England Executive Park, Burlington, MA 01803-5299; telephone: (781)-238-7176, fax: (781)-238-7199.

SUPPLEMENTARY INFORMATION: The Civil Aviation Authority (CAA), which is the airworthiness authority for the United Kingdom (UK), recently notified the Federal Aviation Administration (FAA) that an unsafe condition may exist on Rolls-Royce plc (RR) models RB211-524D4-19, -524D4-B-19, -524D4-B-39, -524D4X-19, and -524D4X-B-19 turbofan engines with cold stream nozzle assembly PN LJ32826 installed. The CAA received a report of a cold stream nozzle assembly release from an engine that struck wing fairings prior to falling away from the airplane. A subsequent investigation of the active fleet conducted by RR revealed 15 more instances of cracked cold stream nozzle assemblies at their longitudinal flange. The actions specified in this AD are intended to detect cracks that could result in failure of the cold stream nozzle assembly, possible release of cold stream nozzle debris from the engine, and possible damage to airplane control surfaces.

Service Information

RR has issued Service Bulletin (SB No. RB.211-78-C955 Revision 1, dated June 20, 2000, which specifies procedures for inspection of cold stream nozzle assembly longitudinal flanges. The CAA classified these SB's as mandatory and issued AD 005-01-2000 in response to the original SB to assure the airworthiness of these engines in the UK. Revision 1 adds repeat inspection requirements to the original SB. These SB's also reference a Technical Variance Document that provides for repair of cold stream nozzle assemblies PN LJ32826 as optional terminating action for the inspections.

Bilateral Airworthiness Agreement

This engine model is manufactured in the UK and is type certificated for operation in the United States under the provisions of section 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

Required Actions

Since an unsafe condition has been identified that is likely to exist or develop on other engines of the same type design registered in the United States, this AD is being issued to require initial and repetitive inspections to detect cracks in the cold stream nozzle assembly and to provide instructions to repair those cracks if they are within acceptable limits. The actions would be required to be accomplished in accordance with the SB's described previously.

Immediate Adoption

There are currently no domestic operators of this engine model. Accordingly, a situation exists that allows the immediate adoption of this regulation. Notice and opportunity for prior public comment hereon are unnecessary, and good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted to the address specified under the caption ADDRESSES. All communications received on or before the closing date for comments will be considered, and this rule may be amended in light of the comments received. Information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this notice must submit a self-addressed, stamped postcard on which the following statement is made: “Comments to Docket Number 2000-NE-23-AD.” The postcard will be date stamped and returned to the commenter.

Regulatory Impact

This action does not have federalism implications, as defined in Executive Order 13132, because it would not have a substantial direct effect on the States, on the relationship between the national government and the States, or on the distribution of power responsibilities among the various levels of government. Accordingly, the FAA has not consulted with state authorities prior to publication of this proposal.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-18-03 Rolls-Royce plc: Amendment 39-11888. Docket 2000-NE-23-AD.

Applicability: This airworthiness directive (AD) applies to Rolls-Royce plc (RR) models RB211-524D4-19, -524D4B-19, -524D4-B-39, -524D4X-19, and -524D4X-B-19 turbofan engines with cold stream nozzle assembly Part Number (PN) LJ32826 installed. These engines are installed on, but not limited to, Boeing 747-200 and -300 series airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Compliance with this AD is required as indicated, unless already done. To detect cracks that could result in the failure of the cold stream nozzle assembly, which could result in possible release of cold stream nozzle debris from the engine and possible impact damage to airplane control surfaces, perform the following inspections:

Initial Inspection

(a) Inspect cold stream nozzle assemblies for cracks within 60 days or 100 cycles-in-service (CIS) after the effective date of this AD, whichever is sooner, in accordance with the Accomplishment Instructions, Sections 3.A through 3.C.(3) of RR Service Bulletin (SB) RB.211-78-C955, Revision 1, dated June 20, 2000.

Repetitive Inspections

(b) Thereafter, inspect each nozzle assembly for cracks within 1400 CIS since last inspection in accordance with Accomplishment Instructions, Sections 3.A. through 3.C.(3) of RR SB RB.211-78-C955, Revision 1.

Optional Terminating Action

(c) Repair of cold stream nozzle assemblies PN LJ32826 on both left and right sides in accordance with RR SB RB.211-78-C955, Revision 1, dated June 20, 2000, is considered terminating action for the repetitive inspection requirements of this AD.

Alternative Methods of Compliance

(d) An alternative method of compliance or adjustment of the compliance time that provides an acceptable level of safety may be used if approved by the Manager, Engine Certification Office (ECO). Operators shall submit their requests through an appropriate FAA Principal Maintenance Inspector, who may add comments and then send it to the Manager, ECO.

Note 2: Information concerning the existence of approved alternative methods of compliance with this AD, if any, may be obtained from the ECO.

Special Flight Permits

(e) Special flight permits may be issued in accordance with sections 21.197 and 21.199 of the Federal Aviation Regulations (14 CFR 21.197 and 21.199) to operate the airplane to a location where the requirements of this AD can be accomplished.

Incorporation by Reference

(f) The actions required by this AD shall be performed in accordance with the following RR SB:

Document No. | Pages | Revision | Date
RB.211-78-C955 | 1-5 | 1 | June 20, 2000
Total pages: 5

This incorporation by reference was approved by the Director of the Federal Register in accordance with 5 U.S.C. 552(a) and 1 CFR part 51. Copies may be obtained from Rolls-Royce plc, PO Box 31, Derby, England; telephone: International Access Code 011, Country Code 44, 1332-249428, fax: International Access Code 011, Country Code 44, 1332-249223. Copies may be inspected at the FAA, New England Region, Office of the Regional Counsel, 12 New England Executive Park, Burlington, MA; or at the Office of the Federal Register, 800 North Capitol Street, NW., suite 700, Washington, DC.

Effective Date

(g) This amendment becomes effective on September 22, 2000.

Issued in Burlington, Massachusetts, August 24, 2000.
David A. Downey,
Assistant Manager, Engine and Propeller Directorate, Aircraft Certification Service.

[FR Doc. 00-22610 Filed 9-6-00; 8:45 am]

BILLING CODE 4910-13-P